DEPARTMENT OF COMMERCE

National Oceanic and Atmospheric Administration

[I.D. 051001E]

Marine Recreational Fishery Statistics Survey

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 16, 2001.

ADDRESSES: Direct all written comments to Madeleine Clayton, Departmental Paperwork Clearance Officer, Department of Commerce, Room 6086, 14th and Constitution Avenue NW., Washington DC 20230 (or via the Internet at MClayton@doc.gov).

FOR FURTHER INFORMATION CONTACT: Requests for additional information or copies of the information collection instrument(s) and instructions should be directed to Dr. David A. Van Voorhees, U. S. Department of Commerce, NOAA, National Marine Fisheries Service, Fisheries Statistics & Economics Division, F/ST1, Room 12454, 1315 East-West Highway, Silver Spring, MD 20910 (phone: 301-713-2328, ext. 154).

SUPPLEMENTARY INFORMATION:

I. Abstract

Marine recreational anglers are surveyed for catch and effort data, fish biology data, and angler socioeconomic characteristics. These data are required to carry out provisions of the Magnuson-Stevens Fishery Conservation and Management Act (16 U.S.C. 1801 et seq.), as amended, regarding conservation and management of fishery resources.

II. Method of Collection

A random-digit-dialing telephone survey of coastal zone households collects data on the proportion of marine fishing households and the number of shore and private/rental boat fishing trips by residents of those households. A directory telephone survey of boat operators collects data on the numbers of angler fishing trips on party and charter boats. On-site intercept interviews of marine recreational anglers collect data on the catch per trip by species. Supplemental surveys collect economic data about marine recreational fishing.

III. Data

OMB Number: 0648-0052.

Form Number: None.

Type of Review: Regular submission.

Affected Public: Individuals or households, business or other for-profit organizations.

Estimated Number of Respondents: 585,383.

Estimated Time Per Response: 7 minutes for fishing households, 7 minutes for party/charter boat operators, 4.5 minutes for intercepted anglers, 3 minutes for supplemental economic data from fishing households, 5 minutes for supplemental economic data from party/charter boat operators, 8 minutes for supplemental economic data from intercepted anglers, 1.5 minutes for verification calls, 1 minute for non-fishing households, .5 minutes for non-households.

Estimated Total Annual Burden Hours: 27,207.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 10, 2001.
Madeleine Clayton,
Departmental Paperwork Clearance Officer, Office of the Chief Information Officer.

[FR Doc. 01-12364 Filed 5-15-01; 8:45 am]

BILLING CODE 3510-22-S